DEPARTMENT OF TRANSPORTATION

Federal Railroad Administration

[Docket Number FRA-2016-0002-N-14]

Proposed Agency Information Collection Activities; Comment Request

AGENCY: Federal Railroad Administration (FRA), Department of Transportation (DOT).

ACTION: Notice and request for comments.

SUMMARY: Under the Paperwork Reduction Act of 1995 (PRA), this notice announces FRA is forwarding the renewal of the information collection requirements (ICR) abstracted below to the Office of Management and Budget (OMB) for review and comment. The ICR describes the nature of the information collection and its expected burden. On February 25, 2016, OMB approved Form FRA F 1680.167 for 180 days under emergency clearance procedures. FRA seeks regular clearance of this form for the maximum period (3 years) to comply with Fixing America's Surface Transportation Act (FAST Act) requirements. The Federal Register notice with a 60-day comment period soliciting comments on the following collection of information was published on March 24, 2016.

DATES: Comments must be submitted on or before August 15, 2016.

FOR FURTHER INFORMATION CONTACT: Mr. Robert Brogan, Information Collection Clearance Officer, Office of Railroad Safety, Safety Regulatory Analysis Division, RRS-21, Federal Railroad Administration, 1200 New Jersey Avenue SE., Mail Stop 25, Washington, DC 20590, (202) 493-6292, or Ms. Kimberly Toone, Information Collection Clearance Officer, Office of Administration, Office of Information Technology, RAD-20, Federal Railroad Administration, 1200 New Jersey Avenue SE., Mail Stop 35, Washington, DC 20590, (202) 493-6132. These telephone numbers are not toll-free.

SUPPLEMENTARY INFORMATION: The PRA, 44 U.S.C. 3501-3520, and its implementing regulations, Title 5 Code of Federal Regulations (CFR) part 1320, require Federal agencies to issue two notices seeking public comment on information collection activities before OMB may approve paperwork packages. See 44 U.S.C. 3506, 3507; 5 CFR 1320.5, 1320.8(d)(1), and 1320.12. On March 24, 2016, FRA published a 60-day notice in the Federal Register soliciting comment on ICRs for which the agency is seeking OMB approval. See 81 FR 15781. FRA received no comment in response to that notice. However, FRA did receive a comment from the Association of American Railroads (AAR) on February 26, 2016, in response to FRA's February 19, 2016, Federal Register notice (see 81 FR 8588) requesting Emergency Clearance from OMB for the information collection activities described below. FRA is responding to that comment now.

AAR commented that FRA expects the railroads will provide information on (i) the type of bridge (superstructure) and (ii) type of structure (substructure). AAR states “there are different interpretations of these terms that fulfill the requirements of the FAST Act, including that the `type of bridge' means its material composition and `type of structure' means its superstructure.” FRA finds that AAR's comment is reasonable and FRA will interpret “type of bridge” to mean its material composition and “type of structure” to mean its superstructure. As examples, the combination of type of bridge and structure could yield descriptions such as: Stone Arch, Steel Through Plate Girder on Concrete Abutments, Steel Multi-beams on Stone Abutments and Steel Column Bents, and Concrete Box Beams on Reinforced Concrete Piers and Abutments.

Additionally, AAR commented that FRA will require railroads to respond to the inspection report request within 30 days. AAR explains that “as the FAST Act does not require a railroad to respond to a request in a set time period, FRA should allow a railroad additional time to respond to a request for multiple public bridge inspection reports.” FRA believes that 30 days is sufficient time for railroads to respond. However, FRA will consider longer periods on a case-by-case basis if there are extenuating circumstances.

Before OMB decides whether to approve these proposed collections of information, it must provide 30 days for public comment. See 44 U.S.C. 3507(b), 5 CFR 1320.12(d). Federal law requires OMB to approve or disapprove paperwork packages between 30 and 60 days after the 30-day notice is published. See 44 U.S.C. 3507(b)-(c); 5 CFR 1320.12(d); see also 60 FR 44978, 44983, August 29, 1995. OMB believes that the 30-day notice informs the regulated community to file relevant comments and affords the agency adequate time to digest public comments before it renders a decision. See 60 FR 44983, August 29, 1995. Therefore, respondents should submit their respective comments to OMB within 30 days of publication to best ensure having their full effect. See 5 CFR 1320.12(c); see also 60 FR 44983, August 29, 1995.

The summary below describes the ICR and its expected burden. The renewal request is being submitted for OMB clearance as the PRA requires.

Title: Bridge Safety Standards.

OMB Control Number: 2130-0586.

Abstract: On December 4, 2015, U.S. President Barack Obama signed the FAST Act into law (Pub. L. 114-94). Section 11405, Bridge Inspection Reports, provides a means for a State or a political subdivision of a State to obtain a public version of a bridge inspection report generated by a railroad for a bridge located within its respective jurisdiction. While the FAST Act specifies that requests for such reports must be filed with the Secretary of Transportation, the responsibility for fulfilling these requests is delegated to FRA. See 49 CFR 1.89.

FRA previously revised its currently approved information collection to account for the additional burden States and political subdivisions of States will incur for requesting a public version of a bridge inspection report generated by a railroad for a bridge located within its respective jurisdiction. FRA developed a new form titled “Bridge Inspection Report Public Version Request Form” to facilitate such State and their political subdivisions' requests. Additionally, FRA revised its currently approved information collection to account for the additional burden railroads will incur to provide the public version of a bridge inspection report upon FRA request.

As background, on July 15, 2010, FRA published its Bridge Safety Standards Final Rule. See 75 FR 41281. The final rule on bridge safety standards normalized and established Federal requirements for railroad bridges. The final rule establishes minimum requirements to assure the structural integrity of railroad bridges and to protect the safe operation of trains over those bridges. The final rule requires railroads/track owners to implement bridge management programs to prevent the deterioration of railroad bridges and to reduce the risk of human casualties, environmental damage, and disruption to the Nation's transportation system that would result from a catastrophic bridge failure. Bridge management programs must include annual inspection of bridges as well as special inspections, which must be conducted if natural or accidental events cause conditions that warrant such inspections. Lastly, the final rule requires railroads/track owners to audit bridge management programs and bridge inspections and to keep records mandated under 49 CFR part 237, Bridge Safety Standards. This final rule culminated FRA's efforts to develop and promulgate bridge safety regulations and fulfilled the Rail Safety Improvement Act of 2008 (Pub. L. 110-432, Division A) mandate.

FRA uses the information collected to ensure railroads/track owners meet Federal standards for bridge safety and comply with all the requirements of this regulation. In particular, FRA uses the collection of information to confirm that railroads/track owners adopt and implement bridge management programs to properly inspect, maintain, modify, and repair all bridges that carry trains over them and for which they are responsible. Railroads/track owners must conduct annual inspections of railroad bridges. Further, railroads/track owners must incorporate provisions for internal audits into their bridge management program and must conduct internal audits of bridge inspection reports. Railroads/track owners use the internal audit information to verify the inspection provisions of the bridge management program are being followed and to continually evaluate the effectiveness of their bridge management program and bridge inspection activities. FRA uses this information to ensure railroads/track owners implement a safe and effective bridge management program and bridge inspection regime.

Type of Request: Extension without change of a currently approved information collection under regular clearance procedures.

Affected Public: Businesses (Railroads).

Form(s): Form FRA F 6180.167.

Total Annual Estimated Responses for New FAST Act Requirements: 150.

Total Annual Estimated Responses for Entire Information Collection: 49,271.

Total Annual Estimated Burden for New FAST Act Requirements: 81 hours.

Total Annual Estimated Burden for Entire Information Collection: 224,689 hours.

Addressee: Send comments regarding these information collections to the Office of Information and Regulatory Affairs, Office of Management and Budget, 725 Seventeenth Street NW., Washington, DC 20503, Attention: FRA Desk Officer. Comments may also be sent via email to OMB at the following address: oira_submissions@omb.eop.gov.

Comments are invited on the following: Whether the proposed collections of information are necessary for the proper performance of the functions of the Department, including (i) whether the information will have practical utility; (ii) the accuracy of the Department's estimates of the burden of the proposed information collections; (iii) ways to enhance the quality, utility, and clarity of the information to be collected; and (iv) ways to minimize the burden of the collections of information on respondents, including the use of automated collection techniques or other forms of information technology.

A comment to OMB is best assured of having its full effect if OMB receives it within 30 days of publication of this notice in the Federal Register.

Authority: 44 U.S.C. 3501-3520.

Issued in Washington, DC, on July 12, 2016.
Corey Hill,
Executive Director.

[FR Doc. 2016-16771 Filed 7-14-16; 8:45 am]

BILLING CODE 4910-06-P